DEPARTMENT OF TRANSPORTATION

Federal Highway Administration

Notice of Final Federal Agency Actions on Proposed Highway in Utah

AGENCY: Utah Department of Transportation (UDOT), Federal Highway Administration (FHWA), Department of Transportation.

ACTION: Notice of limitations on claims for judicial review of actions by the U.S. Army Corps of Engineers.

SUMMARY: The FHWA, on behalf of UDOT, is issuing this notice to announce actions taken by the U.S. Army Corps of Engineers (USACE) that are final Federal agency actions. The final agency actions relate to a proposed highway project, the West Davis Corridor project in Davis County, Utah. Those actions grant licenses, permits and/or approvals for the project.

DATES: By this notice, FHWA, on behalf of UDOT, is advising the public of final agency actions subject to 23 U.S.C. 139(l)(1). A claim seeking judicial review of these Federal agency actions on the highway project will be barred unless the claim is filed on or before November 2, 2020. If the Federal law that authorizes judicial review of a claim provides a time period of less than 150 days for filing such claim, then that shorter time period still applies.

FOR FURTHER INFORMATION CONTACT: For UDOT: Randy Jefferies, Project Manager, UDOT Region 1, 166 W Southwell Street, Ogden, UT 84404; (801) 791-1059; email: rjefferies@utah.gov. UDOT's normal business hours are 8 a.m. to 5 p.m. (Mountain Time Zone), Monday through Friday, except State and Federal holidays. For USACE: Jason Gipson, Nevada/Utah Regulatory Section Chief; USACE Bountiful Regulatory Field Office, 533 West 2600 South, Suite 150, Bountiful, UT 84010; (801) 295-8380 x8314; email: Jason.a.gipson@usace.army.mil. USACE's normal business hours are 8 a.m. to 5 p.m. (Mountain Time Zone), Monday through Friday, except Federal holidays.

SUPPLEMENTARY INFORMATION: Effective January 17, 2017, FHWA assigned to UDOT certain responsibilities of FHWA for environmental review, consultation, and other actions required by applicable Federal environmental laws and regulations for highway projects in Utah, pursuant to 23 U.S.C. 327. FHWA maintained responsibility to publish documents proposed by UDOT to be published in the Federal Register, including notices of final agency action under 23 U.S.C. 139(l)(1). FHWA also maintained responsibility of the environmental review process of the West Davis Corridor project until its issuance of a Record of Decision (FHWA ROD), which occurred on September 29, 2017. Since that time UDOT has been responsible for conducting any additional environmental reviews that are required for the West Davis Corridor project. On behalf of UDOT, notice is hereby given that the USACE has taken final agency actions subject to 23 U.S.C. § 139(l)(1) by issuing licenses, permits, and approvals for the West Davis Corridor project in the State of Utah.

The West Davis Corridor project is a proposed highway approximately 19 miles long and would be a four-lane divided highway with an average right-of-way width of 250 feet from I-15 in Farmington to Antelope Drive in Davis County, Utah. From Antelope Drive to 1800 North in West Point the project would be a 146-foot-wide, limited-access two-lane highway.

A Final Environmental Impact Statement and Section 4(f) Evaluation for the West Davis Corridor project (FEIS) was approved by FHWA on June 23, 2017, and the FHWA ROD for the project was issued on September 29, 2017. The FEIS, FHWA ROD, and other project records are available by contacting UDOT at the address provided above. The FEIS and FHWA ROD can also be viewed and downloaded from the project website at https://westdavis.udot.utah.gov/final-eis-and-rod/. FHWA published a notice of final federal agency action under 23 U.S.C. 139(1)(l) for the FEIS, FHWA ROD and all other then-final federal agency actions for the project on October 6, 2017, and the 150-day period for filing a claim for judicial review of those actions expired on March 5, 2018.

This notice applies to USACE's approval of a permit under Section 404 of the Clean Water Act and a Record of Decision under the National Environmental Policy Act and Section 404 of the Clean Water Act issued for the West Davis Corridor project. The USACE Record of Decision was issued on May 14, 2020 and the USACE Section 404 permit was issued on May 15, 2020 (SPK-2007-01985). As described in the USACE Record of Decision and permit, in the approximately 17.5 miles of the project covered by the permit, between I-15 in Farmington and 300 North in West Point, there will be a discharge of dredged or fill material into 55.71 acres of waters of the United States, including 52.03 acres of wetlands, 0.98 acre/1,875 linear feet of perennial streams, and 2.70 acres of other open waters. The Record of Decision and Section 404 permit authorize these discharges.

The USACE Section 404 permit and Record of Decision are available by contacting USACE at the address provided above. This notice applies to the Section 404 permit and Record of Decision and all laws under which such actions were taken, including but not limited to the following laws and their implementing regulations:

1. General: National Environmental Policy Act [42 U.S.C. 4321-4351].

2. Air: Clean Air Act [42 U.S.C. 7401-7671(q)].

3. Wildlife: Endangered Species Act [16 U.S.C. 1531-1544 and Section 1536], Fish and Wildlife Coordination Act [16 U.S.C. 661-667(d)]; Migratory Bird Treaty Act [16 U.S.C. 703-712]; The Bald and Golden Eagle Protection Act [16 U.S.C. 668]; The Magnuson-Stevens Fishery Conservation and Management Act [16 U.S.C. 1801 et seq].

4. Historic and Cultural Resources: Section 106 of the National Historic Preservation Act of 1966, as amended [16 U.S.C. 470(f) et seq.];

5. Social and Economic: Civil Rights Act of 1964 [42 U.S.C. 2000(d)-2000(d)(1)]; American Indian Religious Freedom Act [42 U.S.C. 1996]; Farmland Protection Policy Act (FPPA) [7 U.S.C. 4201-4209].

6. Wetlands and Water Resources: Clean Water Act (Section 404, Section 401, Section 319) [33 U.S.C. 1251-1377];

7. Executive Orders: E.O. 11990 Protection of Wetlands; E.O. 11988 Floodplain Management; E.O. 12898, Federal Actions to Address Environmental Justice in Minority Populations and Low-Income Populations; E.O. 11593 Protection and Enhancement of Cultural Resources; E.O. 13175 Consultation and Coordination with Indian Tribal Governments; E.O. 11514 Protection and Enhancement of Environmental Quality; E.O. 13112 Invasive Species.

This notice does not reopen or extend the 150-day period for filing a claim for judicial review of any federal agency or UDOT action on the West Davis Corridor project for which a notice of agency action has been previously published under 23 U.S.C. 139(l)(1), including any action relied upon by the USACE in approving the Section 404 permit or Record of Decision.

(Catalog of Federal Domestic Assistance Program Number 20.205, Highway Planning and Construction. The regulations implementing Executive Order 12372 regarding intergovernmental consultation on Federal programs and activities apply to this program.)

Authority: 23 U.S.C. 139 (l)(1).

Issued on: May 28, 2020.
Ivan Marrero,
Division Administrator, Federal Highway Administration, Salt Lake City, Utah.

[FR Doc. 2020-12207 Filed 6-4-20; 8:45 am]

BILLING CODE 4910-RY-P